DEPARTMENT OF THE TREASURY

Office of Foreign Assets Control

Additional Designations of Entities Pursuant to Executive Order 13405

AGENCY: Office of Foreign Assets Control, Treasury.

ACTION: Notice.

SUMMARY: The Treasury Department's Office of Foreign Assets Control (“OFAC”) is publishing the names of three newly-designated entities whose property and interests in property are blocked pursuant to Executive Order 13405 of June 16, 2006, “Blocking Property of Certain Persons Undermining Democratic Processes or Institutions in Belarus.”

DATES: The designation by the Director of OFAC of the three entities identified in this notice, pursuant to Executive Orders 13405, is effective May 15, 2008.

FOR FURTHER INFORMATION CONTACT: Assistant Director, Compliance Outreach & Implementation, Office of Foreign Assets Control, Department of the Treasury, 1500 Pennsylvania Avenue, NW., (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On June 16, 2006, the President issued Executive Order 13405 (the “Order”) pursuant to, inter alia, the International Emergency Economic Powers Act (50 U.S.C. 1701-06). In the Order, the President declared a national emergency to address political repression, electoral fraud, and public corruption in Belarus. The Order imposes economic sanctions on persons responsible for actions or policies that undermine democratic processes or institutions in Belarus. The President identified ten individuals as subject to the economic sanctions in the Annex to the Order.

Section 1 of the Order blocks, with certain exceptions, all property, and interests in property, that are in, or hereafter come within, the United States or the possession or control of United States persons for persons listed in the Annex and those persons determined by the Secretary of the Treasury, after consultation with the Secretary of State, to satisfy any of the criteria set forth in subparagraphs (a)(ii)(A) through (a)(ii)(E) of Section 1.

On May 15, 2008, the Director of OFAC, in consultation with the Secretary of State, designated, pursuant to one or more of the criteria set forth in Section 1, subparagraphs (a)(ii)(A) through (a)(ii)(E) of the Order, the following three entities, whose names have been added to the list of Specially Designated Nationals and whose property and interests in property are blocked, pursuant to Executive Order 13405:

1. LAKOKRASKA OAO (a.k.a. LAKOKRASKA OPEN JOINT-STOCK COMPANY), 71 Ignatova Street, Grodnenskaya Region, Lida 231300, Belarus; ul. Ignatova, 71, Grodnenskaya oblast, Lida 231300, Belarus [BELARUS].

2. POLOTSK STEKLOVOLOKNO OAO (a.k.a. POLOTSK PRODUCTION ASSOCIATION STEKLOVOLOKNO; a.k.a. POLOTSKOE STEKLOVOLOKNO OAO; a.k.a. POLOTSK-STEKLOVOLOKNO; a.k.a. POLOTSK-STEKLOVOLOKNO JSC; a.k.a. POLOTSK-STEKLOVOLOKNO JSC SD STEKLOKOMPOZIT; a.k.a. POLOTSK-STEKLOVOLOKNO OPEN JOINT-STOCK COMPANY; a.k.a. POLOTZK STEKLOVOLOKNO OAO; a.k.a. STEKLOVOLOKNO), ul. Stroitelnaya, Polotsk, 211412, Belarus; Industrial Zone Ksty, Vitebsk Region, Polotsk 21140, Belarus; Ksty Industrial Zone, 211400 Vitebskaya oblast, Polotsk, Belarus; Promuzel Ksty, Polotsk 211400, Belarus [BELARUS].

3. BELARUSIAN OIL TRADE HOUSE (a.k.a. BELARUSIAN OIL TRADING HOUSE; a.k.a. BELARUSIAN OIL TRADING HOUSE REPUBLICAN SUBSIDIARY UNITARY ENTERPRISE; a.k.a. BELARUSIAN OIL TRADING HOUSE REPUBLICAN UNITARY SUBSIDIARY; a.k.a. BOTH; a.k.a. UE BELARUSIAN OIL TRADE HOUSE), Dzerzhinsky Avenue, 73, Minsk 220116, Belarus; Prospect Dzerzhinskogo, 73, Minsk 220116, Belarus; 73 Derzhinskiy Ave., Minsk 220116, Belarus; Business Registration Document # UNP 101119568 (Belarus) [BELARUS].

Dated: May 15, 2008.
Adam J. Szubin,
Director, Office of Foreign Assets Control.

[FR Doc. E8-11472 Filed 5-21-08; 8:45 am]

BILLING CODE 4811-42-P